DEPARTMENT OF ENERGY

Federal Energy Regulatory Commission

[Project No. P-2197-084]

Alcoa Power Generating Incorporated; Notice of Application for Temporary Amendment of License and Soliciting Comments, Motions To Intervene, and Protests

July 10, 2008.

Take notice that the following hydroelectric application has been filed with the Commission and is available for public inspection:

a. Type of Application: Request for temporary variance of minimum flow release and reservoir drawdown limit.

b. Project No.: 2197-084.

c. Date Filed: July 8, 2008.

d. Applicant: Alcoa Power Generating Incorporated.

e. Name of Project: Yadkin.

f. Location: On the Yadkin/Pee Dee River, in Montgomery, Stanley, Davidson, Rowan, and Davie Counties, North Carolina.

g. Filed Pursuant to: Federal Power Act, 16 U.S.C. 791a-825r.

h. Applicant Contact: Marshall Olson, Alcoa Power Generating Inc., 293 NC 740 Highway, P.O. Box 576, Badin, NC 28009-0576, (704) 422-5622.

i. FERC Contact: Thomas LoVullo, (202) 502-8900; e-mail: thomas.lovullo@ferc.gov.

j. Deadline for filing comments, motions to intervene and protests: August 11, 2008.

Please include the project number (P-2197) on any comments or motions filed. All documents (original and eight copies) should be filed with: Kimberly D. Bose, Secretary, Federal Energy Regulatory Commission, 888 First Street, NE., Washington, DC 20426.

Comments, protests, and interventions may be filed electronically via the Internet in lieu of paper, see 18 CFR 385.2001(a)(1)(iii) and the instructions on the Commission's Web site under the “e-filing” link. The Commission strongly encourages electronic filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Alcoa Power Generating, Inc. is requesting a temporary variance of the minimum flow release requirement under license article 33 for the Yadkin Project. Due to worsening drought conditions in the project area and the need to conserve water, Alcoa requests that it be allowed to reduce the weekly average discharge flow of 1,400 cubic feet per second (cfs) to a weekly average of 1,000 cfs, effective as soon as possible. Additionally, Alcoa requests a temporary variance from the operating guides, at the Narrows reservoir, in order to balance outflows with the High Rock reservoir. Included with Alcoa's request were concurrences received from the Drought Management Team (DMT) established as a result of the 2002 drought. On July 10, 2008, the Commission granted the licensee's requests, but reserved authority to require changes in project operation based upon comments received from this notice.

l. Location of the Application: The filing is available for inspection and reproduction at the Commission's Public Reference Room, located at 888 First Street, NE., Room 2A, Washington, DC 20426 or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call 1-866-208-3372 or e-mail ferconlinesupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application.

o. Any filing must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Kimberly D. Bose,
Secretary.

[FR Doc. E8-16293 Filed 7-16-08; 8:45 am]

BILLING CODE 6717-01-P